FEDERAL ELECTION COMMISSION

Sunshine Act Meetings

AGENCY: Federal Election Commission.

DATE and TIME: Thursday, June 30, 2016 at 10:00 a.m.

PLACE: 999 E Street, NW., Washington, DC (Ninth Floor).

STATUS: This meeting will be open to the public.

ITEMS TO BE DISCUSSED:

Draft Advisory Opinion 2016-05: Huckabee for President, Inc.

Proposed Statement of Policy Regarding the Public Disclosure of Closed Enforcement Files

Revisions to Forms

REG 2013-01: Draft Notice of Proposed Rulemaking on Technological Modernization

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2016-15317 Filed 6-23-16; 4:15 pm]

BILLING CODE 6715-01-P